EQUAL EMPLOYMENT OPPORTUNITY COMMISSION

Agency Information Collection Activities: Submission for OMB Review; Final Comment Request

AGENCY: Equal Employment Opportunity Commission.

ACTION: Final Notice of Submission for OMB Review; Final Comment Request

SUMMARY: In accordance with the Paperwork Reduction Act, the Equal Employment Opportunity Commission (EEOC) has submitted a request for clearance of the information collection described below to the Office of Management and Budget (OMB). A notice that the EEOC would be submitting this request was published in the Federal Register on October 14, 1999, allowing for a 60-day public comment period. No public comments were received.

DATES: Written comments on this final notice must be submitted on or before February 17, 2000.

ADDRESSES: Comments on this final notice should be submitted to the Office of Information and Regulatory Affairs, Attention: Stuart Shapiro, Desk Officer for the U.S. Equal Employment Opportunity Commission, Office of Management and Budget, 725 17th Street, NW, Room 10235, New Executive Office Building, Washington, DC 20503 or electronically mailed to SSHAPIRO@OMB.EOP.GOV. Requests for copies of the proposed information collection request should be addressed to Mr. Neckere at the address below.

FOR FURTHER INFORMATION CONTACT: Joachim Neckere, Director, Program Research and Surveys Division, 1801 L Street, NW, Room 9222, Washington, DC 20507, (202) 663-4958 (voice) or (202) 663-7063 TDD).

SUPPLEMENTARY INFORMATION: Collection Title: Local Union Report (EEO-3).

OMB-Number: 3046-0006.

Frequency of Report: Biennial.

Type of Respondent: Referral local unions with 100 or more members.

Description of Affected Public: Referral local unions and independent or unaffiliated referral unions and similar labor organizations.

Number of Responses: 3,000.

Reporting Hours: 3,000 (4,500 hours including recordkeeping).

Number of Forms: 1.

Federal Cost: $43,500.

Abstract: Section 709(c) of Title VII of the Civil Rights Act of 1964, as amended, 42 U.S.C. 2000e-8(c), requires employers to make and keep records relevant to a determination of whether unlawful employment practices have been or are being committed and to make reports therefrom as required by the EEOC. Accordingly, the EEOC has issued regulations which set forth the reporting requirements for various kinds of labor organizations. Referral local unions with 100 or more members have been required to submit EEO-3 reports since 1967 (biennially beginning in 1986).

EEO-3 data are used by the EEOC to investigate charges of discrimination against referral local unions. In addition, the data are used to support EEOC decisions and conciliations, and for research. Pursuant to section 709(d) of Title VII of the Civil Rights Act of 1964, as amended, EEO-3 data are also shared with 86 State and local Fair Employment Practices Agencies (FEPAs).

Burden Statement: The respondent burden for this information collection is minimal. The estimated number of respondents included in the biennial EEO-3 survey is 3,000 referral unions. Total biennial reporting is estimated to be 3,000 hours, and total biennial reporting and recordkeeping is 4,500 hours. Because referral local unions often have small management staffs, the use of filing the EEO-3 report by diskette or magnetic tape, although encouraged, has been less successful.

Dated: January 10, 2000.
Ida L. Castro,
Chairwoman.

[FR Doc. 00-1006 Filed 1-14-00; 8:45 am]

BILLING CODE 6150-01-M